ENVIRONMENTAL PROTECTION AGENCY

40 CFR Part 721

[EPA-HQ-OPPT-2011-0108; FRL-9344-7]

RIN 2070-AB27

Modification of Significant New Uses of Tris Carbamoyl Triazine; Technical Amendment

AGENCY: Environmental Protection Agency (EPA).

ACTION: Final rule; technical amendment.

SUMMARY: This technical amendment implements a technical correction that published in the Federal Register of March 7, 2012. Specifically, the correction involves the removal of a cross-reference that was erroneously included in a final rule that published in the Federal Register of February 8, 2012.

DATES: This final rule is effective April 24, 2012.

ADDRESSES: The docket for this action, identified under docket identification (ID) number EPA-HQ-OPPT-2011-0108, is available online at http://www.regulations.gov and at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. For information or additional instructions about the docket or visiting the EPA/DC, please go to http://www.epa.gov/dockets.

FOR FURTHER INFORMATION CONTACT: For technical information contact: Tracey Klosterman, Chemical Control Division (7405M), Office of Pollution Prevention and Toxics, Environmental Protection Agency, 1200 Pennsylvania Ave. NW., Washington, DC 20460-0001; telephone number: (202) 564-2209; email address: klosterman.tracey@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

The Agency included in the final rule a list of those who may be potentially affected by this action. If you have questions regarding the applicability of this action to a particular entity, consult the technical person listed under FOR FURTHER INFORMATION CONTACT.

II. What does this technical amendment do?

This technical amendment implements a technical correction that published in the Federal Register of March 7, 2012 (77 FR 13506) (FRL-9339-8), which removes a cross-reference erroneously placed in § 721.9719(a)(2)(ii) by a final rule that published in the Federal Register of February 8, 2012 (77 FR 6476) (FRL-9330-6).

In order to remove the erroneous cross-reference before the effective date of the February 8, 2012 final rule, EPA published the final rule technical correction in the Federal Register of March 7, 2012. Subsequently, however, the Office of the Federal Register (OFR) determined that the placement of the correction text in that document did not satisfy OFR's format requirements, and a second correction was necessary to effectuate the change in the Code of Federal Regulations (CFR). Since the February 8, 2012 final rule had become effective, the OFR instructed EPA to do this second correction as a technical amendment to the CFR.

III. Why is this technical amendment issued as a final rule?

Section 553 of the Administrative Procedure Act (APA), 5 U.S.C. 553(b)(3)(B), provides that, when an Agency for good cause finds that notice and public procedure are impracticable, unnecessary or contrary to the public interest, the Agency may issue a final rule without providing notice and an opportunity for public comment. EPA has determined that there is good cause for making this technical amendment final without prior proposal and opportunity for comment, because notice and comment are unnecessary. The hazard communication requirement that is being removed was never intended to be included in the significant new use rule (SNUR), the PMN submitter who brought the error to EPA's attention is familiar with the issue, and EPA is not aware of and does not expect there to be persons who would be adversely affected by the change as there are no companies making plans based on erroneous notice and no harm resulting from deleting the unnecessary requirement for a developmental effect warning. EPA finds that this constitutes good cause under 5 U.S.C. 553(b)(3)(B).

IV. Do any of the Statutory and Executive Order reviews apply to this action?

This technical amendment effectuates the March 7, 2012 technical correction to remove an erroneous cross-reference that was placed in § 721.9719(a)(2)(ii) when the final rule published in the Federal Register of February 8, 2012, modifying significant new uses of tris carbamoyl triazine. The February 8, 2012 final rule addresses these requirements for that action (see Unit IX. of the preamble to that action). This technical amendment does not otherwise amend or impose any other requirements.

As such, this technical amendment is not a “significant regulatory action” subject to review by the Office of Management and Budget (OMB) under Executive Order 12866, entitled Regulatory Planning and Review (58 FR 51735, October 4, 1993), nor does this technical amendment contain any information collections subject to OMB approval under the Paperwork Reduction Act (44 U.S.C. 3501 et seq.)

Because the Agency has made a “good cause” finding that this technical amendment is not subject to notice-and-comment requirements under the APA or any other statute (see Unit III. of this document), it is not subject to the regulatory flexibility provisions of the Regulatory Flexibility Act (RFA) (5 USC 601 et seq.), or to sections 202 and 205 of the Unfunded Mandates Reform Act (UMRA) (2 U.S.C. 1531 et seq.). Nor does this technical amendment significantly or uniquely affect small governments or impose a significant intergovernmental mandate, as described in sections 203 and 204 of UMRA.

This technical amendment will not have substantial direct effects on the States, on the relationship between the national government and the States, or on the distribution of power and responsibilities among the various levels of government, as specified in Executive Order 13132, entitled Federalism (64 FR 43255, August 10, 1999), nor will this technical amendment have any “tribal implications” as described in Executive Order 13175, entitled Consultation and Coordination with Indian Tribal Governments (65 FR 67249, November 9, 2000).

This technical amendment does not require any special considerations, OMB review or any Agency action under Executive Order 13045, entitled Protection of Children from Environmental Health Risks and Safety Risks (62 FR 19885, April 23, 1997). Nor will this technical amendment have any affect on energy supply, distribution or use as described in Executive Order 13211, Actions Concerning Regulations That Significantly Affect Energy Supply, Distribution, or Use (66 FR 28355, May 22, 2001).

This technical amendment does not involve any technical standards that would require Agency consideration of voluntary consensus standards pursuant to section 12(d) of the National Technology Transfer and Advancement Act (NTTAA) (15 U.S.C. 272 note). The technical amendment also does not involve special consideration of environmental justice related issues under Executive Order 12898, entitled Federal Actions to Address Environmental Justice in Minority Populations and Low-Income Populations (55 FR 7629, February 16, 1994).

V. Congressional Review Act

Pursuant to the Congressional Review Act (5 U.S.C. 801 et seq.), EPA will submit a report containing this rule and other required information to the U.S. Senate, the U.S. House of Representatives, and the Comptroller General of the United States prior to publication of this final rule in the Federal Register. This final rule is not a “major rule” as defined by 5 U.S.C. 804(2).

List of Subjects in 40 CFR Part 721

Environmental protection, Chemicals, Hazardous substances, Reporting and recordkeeping requirements.

Dated: April 12, 2012.
Ward Penberthy,
Acting Director, Chemical Control Division, Office of Pollution Prevention and Toxics.

Therefore, 40 CFR part 721 is corrected by making the following technical amendment:

PART 721—[AMENDED]

1. The authority citation for part 721 continues to read as follows:

Authority: 15 U.S.C. 2604, 2607, and 2625(c).

2. In § 721.9719, revise paragraph (a)(2)(ii) to read as follows:

§ 721.9719 Tris carbamoyl triazine (generic).

(a) * * *

(2) * * *

(ii) Hazard communication program. Requirements as specified in § 721.72(a), (b), (c), (d), (e) (concentration set at 1.0 percent), (f), (g)(1)(ii), (g)(1)(iv), (g)(2)(ii), (g)(2)(iv), and (g)(5).

* * * * *

[FR Doc. 2012-9844 Filed 4-23-12; 8:45 am]

BILLING CODE 6560-50-P